DEPARTMENT OF DEFENSE

Department of the Army

[Docket ID: USA-2015-0006]

Privacy Act of 1974; System of Records

AGENCY: Department of the Army, DoD.

ACTION: Notice to alter a system of records.

SUMMARY: The Department of the Army proposes to alter a system of records notice, AAFES 0405.03, entitled “Personnel Appeals and Grievances” in its existing inventory of records systems subject to the Privacy Act of 1974, as amended. This system is used to determine propriety and legal sufficiency or the agency's action in an appeal or grievance matter.

DATES: Comments will be accepted on or before March 6, 2015. This proposed action will be effective the day following the end of the comment period unless comments are received which result in a contrary determination.

ADDRESSES: You may submit comments, identified by docket number and title, by any of the following methods:

• Federal Rulemaking Portal: http://www.regulations.gov.

• Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Office Web site at http://dpcld.defense.gov/. The proposed systems reports, as required by 5 U.S.C. 552a(r) of the Privacy Act, as amended were submitted on November 12, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: January 30, 2015.
Aaron Siegel,
Alternate OSD Federal Register Liaison Officer, Department of Defense.

AAFES 0405.03

SYSTEM NAME:

Personnel Appeals and Grievances (August 9, 1996, 61 FR 41572).

CHANGES:

* * * * *

SYSTEM LOCATION:

Delete entry and replace with “Office of the General Counsel at Headquarters, Army and Air Force Exchange Service, 3911 S. Walton Walker Boulevard, Dallas, TX 75236-1598.”

CATEGORIES OF INDIVIDUALS COVERED BY THE SYSTEM:

Delete entry and replace with “Any employee of the Army and Air Force Exchange Service (Exchange) who has filed an appeal of an adverse action and/or is contesting a personnel action when the appeal/grievance has been referred to the appropriate General Counsel's office; appellant's spouse; witnesses and informants.”

CATEGORIES OF RECORDS IN THE SYSTEM:

Delete entry and replace with “Name, telephone numbers, email addresses, address, social media user names, marital status, race/ethnicity, gender, type of disability of the appellant, medical records pertaining to the appellant's appeal or grievance, military rank, branch and time of service, discipline and adverse actions taken against the appellant.”

AUTHORITY FOR THE MAINTENANCE OF THE SYSTEM:

Delete entry and replace with “10 U.S.C. 3013, Secretary of the Army; 10 U.S.C. 8013, Secretary of the Air Force; Army Regulation 215-3, Non-appropriated Funds Personnel Policies; and Army Regulation 690-700, Personnel Relations and Services.”

* * * * *

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices may apply to this system.

Note: This system of records contains Personal Identifiable Health Information. The DoD Health Information Privacy Regulation (DoD 6025.18-R) issued pursuant to the Health Insurance Portability and Accountability Act of 1996, applies to most such health information. DoD 6025.18-R may place additional procedural requirements on the use and disclosures of such information beyond those found in the Privacy Act of 1974 or mentioned in this system of records notice.”

POLICIES AND PRACTICES FOR STORING, RETRIEVING, ACCESSING, RETAINING, AND DISPOSING OF RECORDS IN THE SYSTEM:

STORAGE:

Delete entry and replace with “Paper records in locked file cabinets and/or electronic storage media.”

RETRIEVABILITY:

Delete entry and replace with “Appellant name.”

SAFEGUARDS:

Delete entry and replace with “Records are maintained in a controlled facility. Physical entry is restricted by the use of locks, guards, and is accessible only to authorized personnel. Access to records is limited to person(s) with an official “need to know” who are responsible for servicing the record in performance of their official duties. Persons are properly screened and cleared for access. Access to computerized data is role-based and further restricted by passwords, which are changed periodically. In addition, integrity of automated data is ensured by internal audit procedures, data base access accounting reports and controls to preclude unauthorized disclosure.”

RETENTION AND DISPOSAL:

Delete entry and replace with “Paper records are retained in the servicing General Counsel's office for one year after final decision is made; subsequently retired to the Exchange warehouse or servicing General Services Administration records holding center where it is held four years before being destroyed by shredding. The disposition for electronic media is four years after the final decision is made.”

SYSTEM MANAGER(S) AND ADDRESS:

Delete entry and replace with “Director/Chief Executive Officer, Army and Air Force Exchange Service, 3911 S. Walton Walker Boulevard, Dallas, TX 75236-1598.”

NOTIFICATION PROCEDURE:

Delete entry and replace with “Individuals seeking to determine whether information about themselves is contained in this system should address written inquiries to the Hearing Examiner's Office at the Army and Air Force Exchange Service location where appeal/grievance was filed.

Individual should provide full name, current address and telephone number, and signature.

In addition, the requester must provide a notarized statement or an unsworn declaration made in accordance with 28 U.S.C. 1746, in the following format:

If executed outside the United States: `I declare (or certify, verify, or state) under penalty of perjury under the laws of the United State of America that the foregoing is true and correct. Executed on (date). (Signature).'

If executed within the United States, its territories, possessions, or commonwealths: `I declare (or certify, verify, or state) under penalty of perjury that the foregoing is true and correct. Executed on (date). (Signature).'”

RECORD ACCESS PROCEDURES:

Delete entry and replace with “Individuals seeking access to information about themselves contained in this system should address written inquiries to the Hearing Examiner's Office at the Army and Air Force Exchange Service location where appeal/grievance was filed.

Individual should provide full name, current address and telephone number, and signature.

In addition, the requester must provide a notarized statement or an unsworn declaration made in accordance with 28 U.S.C. 1746, in the following format:

If executed outside the United States: `I declare (or certify, verify, or state) under penalty of perjury under the laws of the United State of America that the foregoing is true and correct. Executed on (date). (Signature).'

If executed within the United States, its territories, possessions, or commonwealths: `I declare (or certify, verify, or state) under penalty of perjury that the foregoing is true and correct. Executed on (date). (Signature).'”

* * * * *

RECORD SOURCE CATEGORIES:

Delete entry and replace with “From Exchange personnel office responsible for records on the employee; from the Exchange Grievance Examiner; from the Exchange employee and/or his/her representative and from medical officers and physicians.”

* * * * *

[FR Doc. 2015-02167 Filed 2-3-15; 8:45 am]

BILLING CODE 5001-06-P